SECURITIES AND EXCHANGE COMMISSION

[Release No. 34-68337; File No. SR-ICC-2012-18]

Self-Regulatory Organizations; ICE Clear Credit LLC; Notice of Withdrawal of Proposed Rule Change To Add Rules Related to the Clearing of iTraxx Europe Index CDS and European Corporate Single-Name CDS

December 3, 2012.

On September 28, 2012, ICE Clear Credit LLC (“ICC”) filed with the Securities and Exchange Commission (“Commission”) a proposed rule change pursuant to Section 19(b)(1) of the Securities Exchange Act of 1934,¹ and Rule 19b-4 thereunder,² to add rules related to the clearing of iTraxx Europe Index credit default swaps and European Corporate Single-Name credit default swaps. Notice of the proposed rule change was published in the Federal Register on October 17, 2012.³ The Commission received no comments on the proposed change. On November 30, 2012, ICC withdrew the proposed rule change (SR-ICC-2012-18).

¹ 15 U.S.C. 78s(b)(1).

² 17 CFR 240.19b-4.

³ See Securities Exchange Act Release No. 34-68035 (October 11, 2012), 77 FR 63905 (October 17, 2012).

For the Commission, by the Division of Trading and Markets, pursuant to delegated authority.⁴
⁴ 17 CFR 200.30-3(a)(12).
Kevin M. O'Neill,
Deputy Secretary.

[FR Doc. 2012-29564 Filed 12-6-12; 8:45 am]

BILLING CODE 8011-01-P